DEPARTMENT OF AGRICULTURE

Forest Service

Proposed Recreation Fee Site

AGENCY: Forest Service, Agriculture (USDA).

ACTION: Notice.

SUMMARY: The Little Missouri National Grasslands is proposing to establish a recreation fee site. Proposed recreation fees collected at the proposed recreation fee site would be used for operation, maintenance, and improvement of the site. An analysis of nearby recreation fee sites with similar amenities shows that the proposed recreation fee is reasonable and typical of similar recreation fee sites in the area.

DATES: If approved, the proposed recreation fee would be established no earlier than six months following the publication of this notice in the Federal Register.

ADDRESSES: Little Missouri National Grasslands, Attention: Alex Manard, 1905 S Main Street, Watford City, ND 58503.

FOR FURTHER INFORMATION CONTACT: Alex Manard, Recreation Program Manager, by phone at (701) 227-7816 or email to alexander.manard@usda.gov.

SUPPLEMENTARY INFORMATION: The Federal Lands Recreation Enhancement Act (16 U.S.C. 6803(b)) requires the Forest Service to publish in the Federal Register a six-month advance notice before establishment of proposed recreation fee sites and proposed special recreation permits. In accordance with Forest Service Handbook 2309.13, chapter 30, the Forest Service will publish the proposed recreation fee sites and proposed recreation fees in local newspapers and other local publications for public comment. Most of the proposed recreation fees would be spent where they are collected to enhance the visitor experience at the proposed recreation fee site.

A proposed expanded amenity recreation fee of $60 per night for groups up to 20 people would be charged for CCC Group Campground.

Fee revenue would be used to enhance recreation opportunities, improve customer service, and address maintenance needs.

Once public involvement is complete, the proposed recreation fee site and proposed recreation fee will be reviewed by a Resource Advisory Committee prior to a final decision and implementation. Reservations for campgrounds and cabins could be made online at www.recreation.gov or by calling (877) 444-6777. Reservations would cost $8.00 per reservation.

Beattra Wilson,
Associate Deputy Chief, National Forest System.

[FR Doc. 2025-13182 Filed 7-14-25; 8:45 am]

BILLING CODE 3411-15-P